DEPARTMENT OF COMMERCE

International Trade Administration

[A-570-932]

Certain Steel Threaded Rod From the People's Republic of China: Preliminary Results of the First Administrative Review and Preliminary Rescission, in Part

AGENCY: Import Administration, International Trade Administration, Department of Commerce.

SUMMARY: The Department of Commerce (“Department”) is conducting the first administrative review of the antidumping duty order on certain steel threaded rod (“steel threaded rod”) from the People's Republic of China (“PRC”) for the period of review (“POR”) October 8, 2008, through February 28, 2010. As discussed below, we preliminarily determine that sales have been made below normal value (“NV”). If these preliminary results are adopted in our final results of review, we will instruct U.S. Customs and Border Protection (“CBP”) to assess antidumping duties on entries of subject merchandise during the POR for which the importer-specific assessment rates are above de minimis.

DATES: Effective Date: May 9, 2011.

FOR FURTHER INFORMATION CONTACT: Toni Dach or Steven Hampton, AD/CVD Operations, Office 9, Import Administration, International Trade Administration, Department of Commerce, 14th Street and Constitution Avenue, NW., Washington, DC 20230; telephone: (202) 482-1655, (202) 482-0116, respectively.

SUPPLEMENTARY INFORMATION:

Background

On April 14, 2009, the Department published in the Federal Register the antidumping duty order on steel threaded rod from the PRC. See Certain Steel Threaded Rod from the People's Republic of China: Notice of Antidumping Duty Order, 74 FR 17154 (April 14, 2009) (“Order”). On April 1, 2010, the Department published in the Federal Register a notice of opportunity to request an administrative review of the Order for the period October 8, 2008, through March 31, 2010. See Antidumping or Countervailing Duty Order, Finding, or Suspended Investigation; Opportunity To Request Administrative Review, 75 FR 16426 (April 1, 2010).

Between April 1, 2010, and April 30, 2010, we received requests to conduct administrative reviews from Vulcan Threaded Products Inc. (“Petitioner”) and certain Chinese companies. On May 28, 2010, the Department published in the Federal Register a notice of initiation of this administrative review. See Initiation of Antidumping and Countervailing Duty Administrative Reviews, 75 FR 29976, 29980-29982 (May 28, 2010) (“Initiation Notice”).

On November 19, 2010, the Department published in the Federal Register a notice extending by 120 days the time period for issuing the preliminary results. See Certain Steel Threaded Rod From the People's Republic of China: Extension of Time Limit for the Preliminary Results of Antidumping Duty Administrative Review, 75 FR 70908 (November 19, 2010).

Of the 126 companies/groups for which we initiated an administrative review, seven companies submitted separate rate certifications, three companies submitted separate rate applications, one company stated that it did not export subject merchandise to the United States during the POR, and the remaining 115 companies did not submit a separate rate application to the Department.

Respondent Selection

Section 777A(c)(1) of the Tariff Act of 1930, as amended (“the Act”) directs the Department to calculate individual dumping margins for each known exporter or producer of the subject merchandise. However, section 777A(c)(2) of the Act gives the Department discretion to limit its examination to a reasonable number of exporters or producers if it is not practicable to examine all exporters or producers involved in the review.

On June 7, 2010, the Department placed on the record data obtained from CBP with respect to the selection of respondents, inviting comments from interested parties. See Letter from the Department to Interested Parties: 2008—2010 Administrative Review of the Antidumping Duty Order of Certain Steel Threaded Rod from the PRC: CBP Data for Respondent Selection, dated June 7, 2010. Between June 7, 2010, and August 9, 2010, Petitioner and certain respondents provided comments on the Department's respondent selection methodology.

Because of the large number of exporters involved in this review, the Department limited the number of respondents individually examined and issued a respondent selection memorandum on September 24, 2010. Based upon section 777A(c)(2)(B) of the Act, the Department selected IFI & Morgan Limited and RMB Fasteners Ltd. (“RMB/IFI Group” ¹) and Gem-Year Industrial Co. Ltd. (“Gem-Year”) because they were the largest exporters, by volume, of subject merchandise during the POR. See Memorandum to James Doyle from Steven Hampton: First Administrative Review of Steel Threaded Rod from the People's Republic of China: Selection of Respondents for Individual Review, dated September 24, 2010. The Department sent antidumping duty questionnaires to the RMB/IFI Group and Gem-Year on September 27, 2010. Gem-Year submitted its Section A Questionnaire Response (“AQR”) on October 25, 2010. The RMB/IFI Group submitted its AQR on October 27, 2010. The RMB/IFI Group and Gem-Year submitted their Sections C and D Questionnaire Responses on November 17, 2010. The Department issued supplemental questionnaires to Gem-Year in November 2010, and to the RMB/IFI Group between November 2010 and April 2011, to which all companies responded.

¹ The Department determined that these companies constituted a single entity in the antidumping duty investigation on steel threaded rod from the PRC. See Certain Steel Threaded Rod from the People's Republic of China: Preliminary Determination of Sales at Less Than Fair Value, 73 FR 58931 (October 8, 2008), unchanged in Certain Steel Threaded Rod from the People's Republic of China: Final Determination of Sales at Less Than Fair Value, 74 FR 8907 (February 27, 2009).

On December 7, 2010, the Department deselected Gem-Year as a mandatory respondent in this review, and selected Shanghai Recky International Trading Co. Ltd. (“Shanghai Recky”), a separate rate respondent, as an additional mandatory respondent. See Memorandum to the File, through Scot T. Fullerton, from Steven Hampton: First Administrative Review of Certain Steel Threaded Rod from the People's Republic of China: Replacement Respondent Selection, dated December 7, 2010 (“Replacement Respondent Selection Memo”). The Department sent a full antidumping duty questionnaire to Shanghai Recky on December 8, 2010. On December 29, 2010, Shanghai Recky informed the Department that it would not participate in this review, and did not respond to the Department's December 8, 2010, antidumping duty questionnaire.

The Department issued supplemental questionnaires to the RMB/IFI Group between November 2010 and April 2011, to which it responded.

Preliminary Partial Rescission of Administrative Review

On December 7, 2010, the Department indicated that it intended to rescind this administrative review with respect to Gem-Year, as Gem-Year failed to meet the requirements to qualify for an administrative review. Due to the proprietary nature of the information underlying this decision, a detailed analysis of the facts is available in the Replacement Respondent Selection Memo. On March 7, 2011, the Department referred this matter to CBP for possible further investigation and enforcement action.

Additionally, pursuant to 19 CFR 351.213(d)(3), we have preliminarily determined that Zhejiang New Oriental Fastener Co., Ltd. (“New Oriental”) made no shipments of subject merchandise during the POR for this administrative review. The Department received a no-shipment certification from New Oriental on July 26, 2010. The Department issued a no-shipment inquiry to CBP, informing CBP of the no-shipment certifications from New Oriental during the POR, and asking CBP to provide any information that contradicted this certification. We did not receive any response from CBP of subject merchandise into the United States exported by this company. Consequently, as New Oriental made no exports of subject merchandise to the United States during the POR, we preliminarily intend to rescind this administrative review with respect to New Oriental. See 19 CFR 351.213(d)(3).

Withdrawal of Request for Administrative Review

On January 7, 2011, Petitioner submitted a withdrawal of its request for administrative review of Certified Products International Inc. (“CPII”), Haiyan Dayu Fasteners Co., Ltd. (“Haiyan Dayu”), and Jiashan Zhongsheng Metal Products Co., Ltd. (“Jiashan Zhongsheng”). Pursuant to 19 CFR 351.213(d)(1), the Department will rescind an administrative review, in whole or in part, if the party that requested the review withdraws its request within 90 days of the date of publication of the notice of initiation of the requested review. Petitioner's request to withdraw its request for review was submitted 224 days after the initiation of this administrative review. 19 CFR 351.213(d)(1) permits the Department to extend beyond 90 days the time limit for withdrawing a request for review. In this instance, the Department finds that it is not reasonable to extend the deadline and declines to rescind the review with respect to these companies. Specifically, at the point that Petitioner's request to withdraw its request for review was received, this proceeding was at an advanced stage (lasting from May 28, 2010, to January 7, 2011), and the Department had expended significant resources in the 224 days we had spent conducting this review. Therefore, the Department has continued to treat CPII, Haiyan Dayu, and Jiashan Zhongsheng as respondents in this administrative review.

Surrogate Country and Surrogate Value Data

On November 8, 2010, the Department provided a letter to interested parties inviting comments on surrogate country selection and surrogate value (“SV”) data.² On November 18, 2010, the Department extended the comment period for surrogate country selection from November 29, 2010, to January 14, 2011, and for SV comments from December 15, 2010, to March 3, 2011. On January 14, 2011, the Department received comments on surrogate country selection from Petitioner. On March 3, 2011, the Department received information to value factors of production (“FOP”) from Petitioner and the RMB/IFI Group. On March 14, 2011, the Department received a rebuttal response to Petitioner's SV submission from the RMB/IFI Group. The SVs placed on the record from the RMB/IFI Group were obtained from sources in India, whereas the SVs placed on the record by Petitioner were from sources in both India and Thailand.

² See the Department's Letter to All Interested Parties: Antidumping Duty Administrative Review of Certain Steel Threaded Rod from the People's Republic of China, dated November 8, 2010.

Scope of the Order

The merchandise covered by the order is steel threaded rod. Steel threaded rod is certain threaded rod, bar, or studs, of carbon quality steel, having a solid, circular cross section, of any diameter, in any straight length, that have been forged, turned, cold-drawn, cold-rolled, machine straightened, or otherwise cold-finished, and into which threaded grooves have been applied. In addition, the steel threaded rod, bar, or studs subject to the order are non-headed and threaded along greater than 25 percent of their total length. A variety of finishes or coatings, such as plain oil finish as a temporary rust protectant, zinc coating (i.e., galvanized, whether by electroplating or hot-dipping), paint, and other similar finishes and coatings, may be applied to the merchandise.

Included in the scope of the order are steel threaded rod, bar, or studs, in which: (1) Iron predominates, by weight, over each of the other contained elements; (2) the carbon content is 2 percent or less, by weight; and (3) none of the elements listed below exceeds the quantity, by weight, respectively indicated:

• 1.80 percent of manganese, or

• 1.50 percent of silicon, or

• 1.00 percent of copper, or

• 0.50 percent of aluminum, or

• 1.25 percent of chromium, or

• 0.30 percent of cobalt, or

• 0.40 percent of lead, or

• 1.25 percent of nickel, or

• 0.30 percent of tungsten, or

• 0.012 percent of boron, or

• 0.10 percent of molybdenum, or

• 0.10 percent of niobium, or

• 0.41 percent of titanium, or

• 0.15 percent of vanadium, or

• 0.15 percent of zirconium.

Steel threaded rod is currently classifiable under subheading 7318.15.5050, 7318.15.5090, and 7318.15.2095 of the United States Harmonized Tariff Schedule (“HTSUS”). Although the HTSUS subheading is provided for convenience and customs purposes, the written description of the merchandise is dispositive.

Excluded from the scope of the order are: (a) Threaded rod, bar, or studs which are threaded only on one or both ends and the threading covers 25 percent or less of the total length; and (b) threaded rod, bar, or studs made to American Society for Testing and Materials (“ASTM”) A193 Grade B7, ASTM A193 Grade B7M, ASTM A193 Grade B16, or ASTM A320 Grade L7.

Non-Market Economy Country Status

In every case conducted by the Department involving the PRC, the PRC has been treated as a non-market economy (“NME”) country. In accordance with section 771(18)(C)(i) of the Act, any determination that a foreign country is an NME country shall remain in effect until revoked by the administering authority. See, e.g., Preliminary Determination of Sales at Less Than Fair Value and Postponement of Final Determination: Coated Free Sheet Paper from the People's Republic of China, 72 FR 30758, 30760 (June 4, 2007), unchanged in Final Determination of Sales at Less Than Fair Value: Coated Free Sheet Paper from the People's Republic of China, 72 FR 60632 (October 25, 2007). None of the parties to this proceeding have contested such treatment. Accordingly, we calculated the NV in accordance with section 773(c) of the Act, which applies to NME countries.

Separate Rates

In proceedings involving NME countries, it is the Department's practice to begin with a rebuttable presumption that all companies within the country are subject to government control and thus should be assessed a single antidumping duty rate. See, e.g., Separate Rates and Combination Rates in Antidumping Investigations involving Non-Market Economy Countries, 70 FR 17233 (April 5, 2005)(as corrected in 70 FR 19841 (April 14, 2005)); see also Notice of Final Determination of Sales at Less Than Fair Value, and Affirmative Critical Circumstances, In Part: Certain Lined Paper Products From the People's Republic of China, 71 FR 53079, 53082 (September 8, 2006) (“CLPP LTFV Final”); Final Determination of Sales at Less Than Fair Value and Final Partial Affirmative Determination of Critical Circumstances: Diamond Sawblades and Parts Thereof from the People's Republic of China, 71 FR 29303, 29307 (May 22, 2006) (“Diamond Sawblades”). It is the Department's policy to assign all exporters of merchandise subject to investigation in an NME country this single rate unless an exporter can affirmatively demonstrate that it is sufficiently independent so as to be entitled to a separate rate. See, e.g., Diamond Sawblades, 71 FR at 29307. Exporters can demonstrate this independence through the absence of both de jure and de facto government control over export activities. Id. The Department analyzes each entity exporting the subject merchandise under a test arising from the Final Determination of Sales at Less Than Fair Value: Sparklers From the People's Republic of China, 56 FR 20588, 20589 (May 6, 1991) (“Sparklers”), as further developed in Notice of Final Determination of Sales at Less Than Fair Value: Silicon Carbide From the People's Republic of China, 59 FR 22585, 22586-87 (May 2, 1994) (“Silicon Carbide”). However, if the Department determines that a company is wholly foreign-owned or located in a market economy (“ME”), then a separate rate analysis is not necessary to determine whether it is free of government control. In this review, one company, the RMB/IFI Group, provided evidence that it was wholly owned by individuals or companies located in MEs in its separate rate application. Therefore, because the RMB/IFI Group is wholly foreign-owned and there is no record evidence indicating that it is under the control of the government of the PRC, a separate rates analysis is not necessary to determine whether the RMB/IFI Group is free of government control. See Narrow Woven Ribbons with Woven Selvedge from the People's Republic of China: Preliminary Determination of Sales at Less Than Fair Value and Postponement of Final Determination, 75 FR 7244, 7249 (February 18, 2010) (determining that the respondent was wholly foreign-owned and, thus, qualified for a separate rate), unchanged in Narrow Woven Ribbons With Woven Selvedge From the People's Republic of China: Final Determination of Sales at Less Than Fair Value, 75 FR 41808 (July 19, 2010). Accordingly, the Department has preliminarily granted a separate rate to the RMB/IFI Group.

In addition to the RMB/IFI Group, the Department received a separate rate application from Gem-Year, and a separate rate certification from Shanghai Recky. With respect to Gem-Year, as further discussed in the “Preliminary Rescission of Review” section of this notice, the Department has determined that Gem-Year does not meet the requirements to participate in this review. Therefore, the Department is not assessing Gem-Year's eligibility for a separate rate in the context of this review.

With regard to Shanghai Recky, we note that, as further discussed in the “Adverse Facts Available” section of this notice, it failed to respond to the Department's full questionnaire, including sections regarding separate rates, once it was selected as a mandatory respondent. Because Shanghai Recky failed to respond to the Department's request for information regarding its eligibility for a separate rate once it was selected as a mandatory respondent, it will be preliminarily included as a part of the PRC-wide entity.³

³ See Certain Steel Nails From the People's Republic of China: Final Results of the First Antidumping Duty Administrative Review, 76 FR 16379, 16381 (March 23, 2011) (“Nails from the PRC”).

In addition, the Department received separate rate applications or certifications from the following seven companies: Haiyan Dayu Fasteners Co. Ltd.; Jiaxing Xinyue Standard Part Co. Ltd.; Jiashan Zhongsheng Metal Products; Shanghai Prime Machinery Co. Ltd.; Suntec Industries Co. Ltd.; CPII; and Haiyan Julong Standard Part Co. Ltd. (“Haiyan Julong”) (collectively, “Separate Rate Applicants”). Finally, 115 companies subject to the review submitted neither separate rate applications nor certifications.⁴ Therefore, because these companies did not demonstrate their eligibility for separate rate status, they are preliminarily included as part of the PRC-wide entity.

⁴ See Appendix 1.

a. Absence of De Jure Control

The Department considers the following de jure criteria in determining whether an individual company may be granted a separate rate: (1) An absence of restrictive stipulations associated with an individual exporter's business and export licenses; (2) any legislative enactments decentralizing control of companies; and (3) any other formal measures by the government decentralizing control of companies. See Sparklers, 56 FR at 20589. The evidence provided by the Separate Rate Applicants supports a preliminary finding of de jure absence of government control based on the following: (1) An absence of restrictive stipulations associated with the individual exporter's business and export licenses; (2) there are applicable legislative enactments decentralizing control of the companies; and (3) there are formal measures by the government decentralizing control of companies. See, e.g., Haiyan Julong's Separate Rate Application at Questions 5 and 6.

b. Absence of De Facto Control

Typically the Department considers four factors in evaluating whether each respondent is subject to de facto government control of its export functions: (1) Whether the export prices are set by or are subject to the approval of a government agency; (2) whether the respondent has authority to negotiate and sign contracts and other agreements; (3) whether the respondent has autonomy from the government in making decisions regarding the selection of management; and (4) whether the respondent retains the proceeds of its export sales and makes independent decisions regarding disposition of profits or financing of losses. See Silicon Carbide, 59 FR at 22586-87; see also Notice of Final Determination of Sales at Less Than Fair Value: Furfuryl Alcohol From the People's Republic of China, 60 FR 22544, 22545 (May 8, 1995). The Department has determined that an analysis of de facto control is critical in determining whether respondents are, in fact, subject to a degree of government control which would preclude the Department from assigning separate rates. The evidence provided by the Separate Rate Applicants supports a preliminary finding of de facto absence of government control based on the following: (1) The companies set their own export prices independent of the government and without the approval of a government authority; (2) the companies have authority to negotiate and sign contracts and other agreements; (3) the companies have autonomy from the government in making decisions regarding the selection of management; and (4) there is no restriction on any of the companies' use of export revenue. See, e.g., Haiyan Julong's Separate Rate Application at Exhibits IV 2-b, 2-d, 8, 9, and 10. Therefore, the Department preliminarily finds that the Separate Rate Applicants have established that they qualify for a separate rate under the criteria established by Silicon Carbide and Sparklers.

Separate Rate Calculation

In the “Respondent Selection” section above, we stated that the Department employed a limited examination methodology, as it did not have the resources to examine all companies for which a review request was made, and selected two exporters as mandatory respondents in this review. The RMB/IFI Group participated in the review as a selected mandatory respondent. The other selected mandatory respondent, Shanghai Recky, informed the Department that it would not participate in this review and did not respond to the Department's antidumping duty questionnaire. See “Respondent Selection” section above. Seven additional companies (listed in the “Separate Rates” section above) submitted timely information as requested by the Department and remained subject to review as separate rate respondents.

We note that the statute and the Department's regulations do not directly address the establishment of a rate to be applied to individual companies not selected for examination where the Department limited its examination in an administrative review pursuant to section 777A(c)(2) of the Act. The Department's practice in cases involving limited selection based on exporters accounting for the largest volumes of trade has been to look for guidance in section 735(c)(5) of the Act, which provides instructions for calculating the all-others rate in an investigation. Consequently, the Department generally weight-averages the rates calculated for the mandatory respondents, excluding zero and de minimis rates and rates based entirely on facts available (“FA”), and applies that resulting weighted-average margin to non-selected cooperative separate-rate respondents. See, e.g., Wooden Bedroom Furniture From the People's Republic of China: Preliminary Results of Antidumping Duty Administrative Review, Preliminary Results of New Shipper Review and Partial Rescission of Administrative Review, 73 FR 8273 (February 13, 2008) (unchanged in Wooden Bedroom Furniture From the People's Republic of China: Final Results of Antidumping Duty Administrative Review and New Shipper Review, 73 FR 49162 (August 20, 2008)).

However, the Department has, for these preliminary results, calculated a de minimis dumping margin for the sole participating mandatory respondent, the RMB/IFI Group. The Department has additionally assigned an adverse facts available dumping margin to the other mandatory respondent, Shanghai Recky, as part of the PRC-wide entity. See “Adverse Facts Available” and “Application of Total Adverse Facts Available to the PRC-Wide Entity” sections below. In this circumstance, we again look to section 735(c)(5) of the Act for guidance. Section 735(c)(5)(A) of the Act instructs that we are not to calculate an all-others rate using any zero or de minimis margins or any margins based entirely on FA. Section 735(c)(5)(B) of the Act also provides that, where all margins are zero rates, de minimis rates, or rates based entirely on FA, we may use “any reasonable method” for assigning the rate to non-selected respondents. Therefore, because all rates in this proceeding are de minimis or based entirely on FA, we must look to other reasonable means to assign separate rate margins to non-reviewed companies eligible for a separate rate in this review. We find that a reasonable method is to assign to non-reviewed companies in this review the rate we calculated in the most recent segment for any company that was not zero, de minimis, or based entirely on FA. Pursuant to this method, we are assigning the rate of 55.16 percent, the most recent positive rate (from the less-than-fair-value (“LTFV”) investigation) calculated for cooperative separate rate respondents, to those separate rate respondents in the instant review. We note that this calculated rate from the LTFV investigation is the only calculated positive rate in any segment of this proceeding. See Order.

PRC-Wide Entity

Upon initiation of the administrative review, we provided an opportunity for all companies for which the review was initiated to complete either the separate rate application or certification. The separate rate certification and separate rate application were available at: http://ia.ita.doc.gov/nme/nme-sep-rate.html.

We have preliminarily determined that 116 companies failed to demonstrate their eligibility for a separate rate and are properly considered part of the PRC-wide entity. In NME proceedings, “ `rates' may consist of a single dumping margin applicable to all exporters and producers.” See 19 CFR 351.107(d). As explained above in the “Separate Rates” section, all companies within the PRC are considered to be subject to government control unless they are able to demonstrate an absence of government control with respect to their export activities. Accordingly, such companies are assigned a single antidumping duty rate distinct from the separate rate(s) determined for companies that are found to be free of government control with respect to their export activities. We consider that the overall influence that the PRC has been found to have over its economy warrants determining separate rates for the entity that are distinct from the rates found for companies that have provided sufficient evidence to establish that they operate freely with respect to their export activities. See Notice of Final Antidumping Duty Determination of Sales at Less Than Fair Value and Affirmative Critical Circumstances: Certain Frozen Fish Fillets from the Socialist Republic of Vietnam, 68 FR 37116 (June 23, 2003). In this regard, we note that no party has submitted evidence in this proceeding to demonstrate that such government influence is no longer present or that our treatment of the PRC-wide entity is otherwise incorrect. Therefore, we are assigning the PRC-wide entity's current rate of 206%, the only rate ever determined for the PRC-wide entity in this proceeding.

Surrogate Country

When the Department conducts an antidumping administrative review of imports from an NME country, section 773(c)(1) of the Act directs it to base NV, in most circumstances, on the NME producer's FOPs, valued in a surrogate ME country or countries considered to be appropriate by the Department. In accordance with section 773(c)(4) of the Act, in valuing the FOPs, the Department shall utilize, to the extent possible, the prices or costs of FOPs in one or more ME countries that are: (1) At a level of economic development comparable to that of the NME country; and (2) significant producers of comparable merchandise. Further, pursuant to 19 CFR 351.408(c)(2), the Department will normally value FOPs in a single country, except for labor. The sources of the surrogate factor values are discussed under the “Normal Value” section below and in the Memorandum to the File through Scot Fullerton, Program Manager, Office 9 from Toni Dach, International Trade Analyst, Office 9: 2008-2010 Antidumping Duty Administrative Review of Steel Threaded Rod from the People's Republic of China: Surrogate Values for the Preliminary Results, dated May 2, 2011 (“Surrogate Value Memorandum”).

On March 3, 2011, Petitioner and the RMB/IFI Group submitted SV information for valuation of FOPs. On March 14, 2011, the Department received a rebuttal response to the Petitioner's SV submission from the RMB/IFI Group.

Pursuant to its practice, the Department received a list of potential surrogate countries from Import Administration's Office of Policy (“OP”).⁵ The OP determined that India, the Philippines, Indonesia, Thailand, Ukraine, and Peru were at a comparable level of economic development to the PRC. See Surrogate Country List. The Department considers the six countries identified by the OP in its Surrogate Country List as “equally comparable in terms of economic development.” Id. Thus, we find India, the Philippines, Indonesia, Thailand, Ukraine, and Peru are all at an economic level of development equally comparable to that of the PRC. We note that the Surrogate Country List is a non-exhaustive list of economically comparable countries. We also note that the record does not contain publicly available SV factor information for the Philippines, Indonesia, Ukraine, or Peru. Thus, we find that India and Thailand are both economically comparable to the PRC and significant producers of the subject merchandise.

⁵ See Memorandum from Carole Showers, Director, Office of Policy, to Scot T. Fullerton, Program Manager, AD/CVD Operations, Office 9: Request for a List of Surrogate Countries for an Antidumping Duty Administrative Review of the Antidumping Duty Order on Certain Steel Threaded Rod from the People's Republic of China, dated November 3, 2010 (“Surrogate Country List”).

The Department's practice when selecting the best available information for valuing FOPs, in accordance with section 773(c)(1) of the Act, is to select, to the extent practicable, SVs which are product-specific, representative of a broad-market average, publicly available, contemporaneous with the POR and exclusive of taxes and duties.⁶ As a general matter, the Department prefers to use publicly available data representing a broad-market average to value SVs. Id. Petitioner provided data for Thailand from the World Trade Atlas (“WTA”) to value some material inputs, and financial statements from producers of comparable merchandise in Thailand to calculate surrogate financial ratios. Petitioner and the RMB/IFI Group provided data for India from the WTA and various government, non-governmental organization, and industry publications to value all material inputs, energy, and movement expenses, and financial statements from producers of comparable merchandise in India to calculate surrogate financial ratios. Although the data on the record for both India and Thailand to value material inputs meets the Department's criteria for selecting the best available information, we preliminarily find that the information on the record for India is more complete, as data is provided to value all material inputs, energy, and movement expenses. In addition, the Indian financial statements on the record for producers of comparable merchandise reflect the experiences of producers of a broad range of comparable merchandise, while the financial statements on the record from producers of comparable merchandise in Thailand reflects the experience of producers of only one type of comparable merchandise (i.e., springs). Thus, because there are Indian data on the record for valuation of all FOPs, and a wider variety of Indian financial statements with which to calculate surrogate financial ratios, we preliminarily find that Thailand is not the most appropriate surrogate country for purposes of this review.

⁶ See Fresh Garlic from the People's Republic of China: Final Results and Partial Rescission of the Eleventh Administrative Review and New Shipper Reviews, 72 FR 34438 (June 22, 2007) and accompanying Issues and Decision Memorandum at Comment 2A.

Therefore, given the facts summarized above, we find that the information on the record supports a finding that India is an appropriate surrogate country because it is at a similar level of economic development to the PRC, pursuant to section 773(c)(4) of the Act, it is a significant producer of comparable merchandise, and reliable, publicly available data have been provided on the record for surrogate valuation purposes.

In accordance with 19 CFR 351.301(c)(3)(ii), for the final results in an antidumping administrative review, interested parties may submit publicly available information to value FOPs within 20 days after the date of publication of these preliminary results.

Date of Sale

The RMB/IFI Group reported the invoice date as the date of sale because it claims that, for its U.S. sales of subject merchandise made during the POR, the material terms of sale were established on the invoice date. The Department preliminarily determines that the invoice date is the most appropriate date to use as the RMB/IFI Group's date of sale, in accordance with 19 CFR 351.401(i).⁷

⁷ See also Notice of Final Determination of Sales at Less Than Fair Value and Negative Final Determination of Critical Circumstances: Certain Frozen and Canned Warmwater Shrimp From Thailand, 69 FR 76918 (December 23, 2004) and accompanying Issues and Decision Memorandum at Comment 10.

Fair Value Comparisons

To determine whether sales of steel threaded rod to the United States by the RMB/IFI Group were made at less than NV, the Department compared the export price (“EP”) to NV, as described in the “U.S. Price,” and “Normal Value” sections below.

U.S. Price

A. Export Price

In accordance with section 772(a) of the Act, the Department calculated the EP for sales to the United States from the RMB/IFI Group's sales, because the first sale to an unaffiliated party was made before the date of importation. The Department calculated EP based on the price to unaffiliated purchasers in the United States. In accordance with section 772(c) of the Act, as appropriate, we deducted foreign inland freight and brokerage and handling from the starting price to unaffiliated purchasers. Each of these services was either provided by an NME vendor or paid for using an NME currency. Thus, we based the deduction of these movement charges on SVs. Additionally, for international freight provided by an ME provider and paid in an ME currency, we used the actual cost per kilogram of the freight. See Surrogate Value Memorandum for details regarding the SVs for movement expenses.

Normal Value

Section 773(c)(1) of the Act provides that the Department shall determine the NV using an FOP methodology if the merchandise is exported from an NME and the information does not permit the calculation of NV using home-market prices, third-country prices, or constructed value under section 773(a) of the Act. The Department bases NV on the FOPs because the presence of government controls on various aspects of NMEs renders price comparisons and the calculation of production costs invalid under the Department's normal methodologies.

Factor Valuations

In accordance with section 773(c) of the Act, we calculated NV based on FOPs reported by the respondents for the POR, except as noted above. To calculate NV, we multiplied the reported per-unit factor-consumption rates by publicly available Indian SVs. In selecting the SVs, we considered the quality, specificity, and contemporaneity of the data. As appropriate, we adjusted input prices by including freight costs to make them delivered prices. Specifically, we added to Indian import SVs a surrogate freight cost using the shorter of the reported distance from the domestic supplier to the factory of production or the distance from the nearest seaport to the factory of production where appropriate. This adjustment is in accordance with the Court of Appeals for the Federal Circuit's (“CAFC”) decision in Sigma Corp. v. United States, 117 F.3d 1401, 1407-1408 (Fed. Cir. 1997). See Department Policy Bulletin No. 10.2: Inclusion of International Freight Costs When Import Prices Constitute Normal Value, dated November 1, 2010.

Where we did not use Indian Import Statistics, we calculated freight based on the reported distance from the supplier to the factory.

In accordance with the OTCA 1988 legislative history, the Department continues to apply its long-standing practice of disregarding SVs if it has reason to believe or suspect the source data may be subsidized.⁸ In this regard, the Department has previously found that it is appropriate to disregard such prices from India, Indonesia, South Korea and Thailand because we have determined that these countries maintain broadly available, non-industry specific export subsidies.⁹ Based on the existence of these subsidy programs that were generally available to all exporters and producers in these countries at the time of the POR, the Department finds that it is reasonable to infer that all exporters from India, Indonesia, South Korea and Thailand likely benefitted from these subsidies.

⁸ See Omnibus Trade and Competitiveness Act of 1988, Conf. Report to Accompany H.R. 3, H.R. Rep. No. 576, 100th Cong., 2nd Sess. (1988) (“OTCA 1988”) at 590.

⁹ See, e.g., Carbazole Violet Pigment 23 from India: Final Results of the Expedited Five-year (Sunset) Review of the Countervailing Duty Order, 75 FR 13257 (March 19, 2010) and accompanying Issues and Decision Memorandum at 4-5; Certain Cut-to-Length Carbon-Quality Steel Plate from Indonesia: Final Results of Expedited Sunset Review, 70 FR 45692 (August 8, 2005) and accompanying Issues and Decision Memorandum at 4; Corrosion-Resistant Carbon Steel Flat Products from the Republic of Korea: Final Results of Countervailing Duty Administrative Review, 74 FR 2512 (January 15, 2009) and accompanying Issues and Decision Memorandum at 17, 19-20; Final Affirmative Countervailing Duty Determination: Certain Hot-Rolled Carbon Steel Flat Products From Thailand, 66 FR 50410 (October 3, 2001) and accompanying Issues and Decision Memorandum at 23.

Additionally, we disregarded prices from NME countries.¹⁰ Finally, imports that were labeled as originating from an “unspecified” country were excluded from the average value, because the Department could not be certain that they were not from either an NME country or a country with general export subsidies. For further detail, see Surrogate Value Memorandum.

¹⁰ See Tapered Roller Bearings and Parts Thereof, Finished and Unfinished, From the People's Republic of China: Final Results of 1998-1999 Administrative Review, Partial Rescission of Review, and Determination Not To Revoke Order in Part, 66 FR 1953 (January 10, 2001) and accompanying Issues and Decision Memorandum at Comment 1.

Therefore, based on the information currently available, we have not used prices from these countries either in calculating the Indian import-based SVs or in calculating ME input values. In instances where an ME input was obtained solely from suppliers located in these countries, we used Indian import-based SVs to value the input.

In selecting the best available information for valuing FOPs, in accordance with section 773(c)(1) of the Act, the Department's practice is to select, to the extent practicable, surrogate values which are non-export average values, most contemporaneous with the POR product-specific, and tax-exclusive. See, e.g., Notice of Preliminary Determination of Sales at Less Than Fair Value, Negative Preliminary Determination of Critical Circumstances and Postponement of Final Determination: Certain Frozen and Canned Warmwater Shrimp From the Socialist Republic of Vietnam, 69 FR 42672, 42682 (July 16, 2004), unchanged in Final Determination of Sales at Less Than Fair Value: Certain Frozen and Canned Warmwater Shrimp From the Socialist Republic of Vietnam, 69 FR 71005 (December 8, 2004). The record shows that data in the Indian Import Statistics, as well as those from the other Indian sources, are contemporaneous with the POR, product-specific, and tax-exclusive. See Surrogate Value Memorandum. In those instances where we could not obtain publicly available information contemporaneous to the POR with which to value factors, we adjusted the SVs using, where appropriate, the Indian Wholesale Price Index (“WPI”) as published in the International Financial Statistics of the International Monetary Fund.¹¹ For each input value, we used the average value per unit for that input imported into India from all countries that the Department has not previously determined to be NME countries. Import statistics from countries that the Department has determined to be countries which subsidized exports (i.e., Indonesia, South Korea, Thailand, and India) and imports from unspecified countries also were excluded in the calculation of the average value. See Notice of Final Determination of Sales at Less Than Fair Value and Negative Final Determination of Critical Circumstances: Certain Color Television Receivers From the People's Republic of China, 69 FR 20594 (April 16, 2004).

¹¹ See, e.g., Preliminary Determination of Sales at Less Than Fair Value and Partial Affirmative Determination of Critical Circumstances: Certain Polyester Staple Fiber from the People's Republic of China, 71 FR 77373, 77380 (December 26, 2006), unchanged in Final Determination of Sales at Less Than Fair Value and Partial Affirmative Determination of Critical Circumstances: Certain Polyester Staple Fiber from the People's Republic of China, 72 FR 19690 (April 19, 2007); Preliminary Determination of Sales at Less Than Fair Value, Affirmative Critical Circumstances, In Part, and Postponement of Final Determination: Certain Lined Paper Products from the People's Republic of China, 71 FR 19695 (April 17, 2006), unchanged in CLPP LTFV Final.

The Department used Indian Import Statistics to value the raw material and packing material inputs that the RMB/IFI Group used to produce the merchandise under review during the POR, except where listed below. For a detailed description of all SVs for respondents, see Surrogate Value Memorandum.

On May 14, 2010, the U.S. Court of Appeals for the Federal Circuit (“CAFC”) in Dorbest Ltd. v. United States, 604 F.3d 1363, 1372 (Fed. Cir. 2010), found that the “{regression-based} method for calculating wage rates {as stipulated by 19 CFR 351.408(c)(3)} uses data not permitted by {the statutory requirements laid out in section 773 of the Act (i.e., 19 U.S.C. § 1677b(c))}.” The Department is continuing to evaluate options for determining labor values in light of the recent CAFC decision. However, for these preliminary results, we have calculated an hourly wage rate to use in valuing the respondent's reported labor input by averaging industry-specific earnings and/or wages in countries that are economically comparable to the PRC and that are significant producers of comparable merchandise.

For the preliminary results of this administrative review, the Department is valuing labor using a simple average industry-specific wage rate using earnings or wage data reported under Chapter 5B by the International Labor Organization (“ILO”). To achieve an industry-specific labor value, we relied on industry-specific labor data from the countries we determined to be both economically comparable to the PRC, and significant producers of comparable merchandise. A full description of the industry-specific wage rate calculation methodology is provided in the Surrogate Value Memorandum. The Department calculated a simple average industry-specific wage rate of $1.95 for these preliminary results. Specifically, for this review, the Department has calculated the wage rate using a simple average of the data provided to the ILO under Sub-Classification 27 of the ISIC-Revision 3 standard by countries determined to be both economically comparable to the PRC and significant producers of comparable merchandise. The Department finds the two-digit description under ISIC-Revision 3 (“Manufacture of Basic Metals”) to be the best available wage rate SV on the record because it is specific and derived from industries that produce merchandise comparable to the subject merchandise. Consequently, we averaged the ILO industry-specific wage rate data or earnings data available from the following countries found to be economically comparable to the PRC and are significant producers of comparable merchandise: the Philippines, Egypt, Indonesia, Ukraine, Jordan, Thailand, Ecuador, and Peru. For further information on the calculation of the wage rate, see Surrogate Value Memorandum.

We valued zinc chloride using data from the publication Chemical Weekly. See Surrogate Value Memorandum.

We valued electricity using data from the Central Electricity Authority of the Government of India in its publication titled Electricity Tariff & Duty and Average Rates of Electricity Supply in India, dated March 2008. See Surrogate Value Memorandum.

We valued water using data from the Maharastra Industrial Development Corporation (http://www.midcindia.org). We inflated the value using the POR average WPI rate. Id.

We valued diesel using the 2007 diesel fuel price in India reported by the IEA statistics for Energy Prices & Taxes, First Quarter 2007. We inflated the value using the POR average WPI rate. Id.

To value truck freight, we used data from The Great Indian Bazaar, Gateway to Overseas Markets available at http://www.infobanc.com. Id.

To value marine insurance, the Department used rates from RJG Consultants. These rates are for sea freight from the Far East Region. Id.

To value factory overhead, selling, general, & administrative expenses, and profit, we used the simple average of the 2008-2009 financial statement of Nasco Steels Private Limited, the 2009-2010 financial statement of Rajratan Global Wire Limited, the 2008-2009 financial statement of Bansidhar Granites Private Limited, the 2008-2009 financial statement of J&K Wire & Steel Industries (P) Ltd., and the 2009-2010 financial statement of Sterling Tools Limited, all of which are manufacturers of processed steel wire rod or steel round bar products. See Surrogate Value Memorandum, at Exhibit 9.

Currency Conversion

Where necessary, the Department made currency conversions into U.S. dollars, in accordance with section 773A(a) of the Act, based on the exchange rates in effect on the dates of the U.S. sales, as certified by the Federal Reserve Bank. We relied on the daily exchange rates posted on the Import Administration Web site (http://www.trade.gov/ia/). See Surrogate Value Memorandum.

Facts Available

Sections 776(a)(1) and 776(a)(2) of the Act provide that, if necessary information is not available on the record, or if an interested party: (A) Withholds information that has been requested by the Department; (B) fails to provide such information in a timely manner or in the form or manner requested, subject to sections 782(c)(1) and (e) of the Act; (C) significantly impedes a proceeding under the antidumping statute; or (D) provides such information but the information cannot be verified, the Department shall, subject to subsection 782(d) of the Act, use facts otherwise available in reaching the applicable determination.

Section 782(c)(1) of the Act provides that if an interested party “promptly after receiving a request from {the Department} for information, notifies {the Department} that such party is unable to submit the information requested in the requested form and manner, together with a full explanation and suggested alternative forms in which such party is able to submit the information,” the Department may modify the requirements to avoid imposing an unreasonable burden on that party.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e) of the Act, disregard all or part of the original and subsequent responses, as appropriate.

Section 782(e) of the Act states that the Department shall not decline to consider information deemed “deficient” under section 782(d) if: (1) The information is submitted by the established deadline; (2) the information can be verified; (3) the information is not so incomplete that it cannot serve as a reliable basis for reaching the applicable determination; (4) the interested party has demonstrated that it acted to the best of its ability in providing the information and meeting the requirements established by the Department; and (5) the information can be used without undue difficulties.

On November 17, 2010, RMB/IFI Group requested that it be excused from reporting FOP data for one model, as this model was produced prior to the POR. RMB/IFI Group suggested that the Department instead use the input consumption for the most similar model for this CONNUM due to the associated burdens for RMB/IFI Group to report, and for the Department to verify the data provided by the RMB/IFI Group, for a single model produced outside of the POR.

In accordance with section 776(a)(1) of the Act, the Department is applying FA to determine the NV for the sales corresponding to the FOP data that the RMB/IFI Group has been excused from reporting. As FA, the Department is applying the FOPs for the most similar models to this unreported model. Due to the proprietary nature of the factual information concerning the FOPs applied for this model, these issues are addressed in a separate business proprietary memorandum where a detailed explanation of the FA calculation is provided. See Memorandum to Scot Fullerton, Program Manager, AD/CVD Operations, Office 9, from Steven Hampton, Case Analyst, AD/CVD Operations, Office 9: Preliminary Results Analysis Memorandum for The RMB IFI Group in the Antidumping Duty Administrative Review of Certain Steel Threaded Rod from the People's Republic of China, dated May 2, 2011 (“RMB IFI Prelim Analysis Memo”).

Adverse Facts Available

Section 776(b) of the Act provides that the Department may use an adverse inference in applying the facts otherwise available when a party has failed to cooperate by not acting to the best of its ability to comply with a request for information. Such an adverse inference may include reliance on information derived from the petition, the final determination, a previous administrative review, or other information placed on the record.

On December 29, 2010, Shanghai Recky informed the Department that it would not participate in this review, and did not respond to the Department's December 8, 2010, antidumping duty questionnaire. Because Shanghai Recky withheld information requested by the Department, failed to provide requested information in the form and manner required, and significantly impeded the Department's proceeding by not providing requested information, pursuant to section 776(a)(2)(A), (B), and (C) of the Act, the Department will preliminarily rely on facts otherwise available in determining the rate applicable to Shanghai Recky in this administrative review. Furthermore, in accordance with section 776(b) of the Act, the Department is applying an adverse inference in selecting the facts otherwise available to apply to Shanghai Recky because we find that it has failed to cooperate to the best of its ability in replying to the Department's requests for information. Therefore, for purposes of these preliminary results, we find that Shanghai Recky should be treated as part of the PRC-wide entity because it failed to respond to the Department's request for information regarding its eligibility for a separate rate.

Application of Total Adverse Facts Available to the PRC-Wide Entity

In the Initiation Notice, the Department stated that if one of the companies for which this review was initiated “does not qualify for a separate rate, all other exporters of STR from the PRC that have not qualified for a separate rate are deemed to be covered by this review as part of the single PRC entity.” See Initiation Notice, 75 FR at 29984, footnote 6. As noted above, Shanghai Recky, one of the companies for which this review was initiated, has not qualified for a separate rate. Therefore, the PRC-wide entity is now under review.

As explained above, Shanghai Recky, as part of the PRC-wide entity, did not respond to the Department's December 8, 2010, Sections A, C, and D questionnaire. For these reasons, the Department has preliminarily determined that the PRC-wide entity: (1) Withheld information that was requested; (2) failed to provide information within the deadlines established and in the form and manner requested by the Department; (3) significantly impeded this proceeding; and (4) provided information that cannot be verified. Therefore, in accordance with subsections 776(a)(2)(A) through (D) of the Act, the Department has preliminarily based the dumping margin of the PRC-wide entity on the facts otherwise available. Further, because the PRC-wide entity failed to cooperate by not acting to the best of its ability to comply with the Department's requests for information, the Department has preliminarily determined, pursuant to section 776(b) of the Act, to use an inference that is adverse to the interests of the PRC-wide entity in selecting from among the facts otherwise available.

Selection of the Adverse Facts Available Rate

Section 776(b) of the Act and 19 CFR 351.308(c)(1) provide that the Department's adverse inference “may include reliance on information derived from (1) the petition, (2) a final determination in the investigation, (3) any previous review or determination, or (4) any other information placed on the record.” In selecting a rate for use as AFA, the Department selects a rate that is sufficiently adverse “to effectuate the purpose of the facts available rule to induce respondents to provide the Department with complete and accurate information in a timely manner”¹². Furthermore, it is the Department's practice to ensure “that the party does not obtain a more favorable result by failing to cooperate than if it had cooperated fully” ¹³ and to select “the highest rate on the record of the proceeding” ¹⁴ that can be corroborated, to the extent practicable.¹⁵ Therefore, as AFA, the Department has preliminarily assigned the PRC-wide entity a dumping margin of 206.00 percent, which was the margin calculated in the petition, and is the highest dumping margin on the record of this proceeding.

¹² See Notice of Final Determination of Sales at Less Than Fair Value: Static Random Access Memory Semiconductors From Taiwan, 63 FR 8909, 8932 (February 23, 1998).

¹³ See Statement of Administrative Action accompanying the Uruguay Round Agreements Act, H.R. Rep. No. 103-316, Vol. I, at 870 (1994) (“SAA”), reprinted at 1994 U.S.C.C.A.N. 4040, 4198-99.

¹⁴ See Certain Frozen Warmwater Shrimp from Brazil: Final Results and Partial Rescission of Antidumping Duty Administrative Review, 73 FR 39940, 39942 (July 11, 2008).

¹⁵ See Fujian Lianfu Forestry Co., Ltd. v. United States, 638 F. Supp. 2d 1325, 1336 (Ct. Int'l Trade 2009).

Corroboration of Secondary Information

Section 776(c) of the Act provides that, when the Department relies on secondary information rather than on information obtained in the course of an investigation or review, it shall, to the extent practicable, corroborate that information from independent sources that are reasonably at its disposal. Secondary information is defined as information derived from the petition that gave rise to the investigation or review, the final determination concerning the subject merchandise, or any previous review under section 751 of the Act concerning the subject merchandise.¹⁶ “Corroborate” means that the Department will satisfy itself that the secondary information to be used has probative value.¹⁷ To corroborate secondary information, the Department will, to the extent practicable, examine the reliability and relevance of the information to be used.¹⁸ Independent sources used to corroborate such information may include, for example, published price lists, official import statistics and customs data, and information obtained from interested parties during the particular investigation or review.¹⁹

¹⁶ See SAA at 870.

¹⁷ Id.

¹⁸ See Tapered Roller Bearings and Parts Thereof, Finished and Unfinished From Japan, and Tapered Roller Bearings Four Inches or Less in Outside Diameter, and Components Thereof, From Japan; Preliminary Results of Antidumping Duty Administrative Reviews and Partial Termination of Administrative Reviews, 61 FR 57391, 57392 (November 6, 1996), unchanged in Tapered Roller Bearings and Parts Thereof, Finished and Unfinished From Japan, and Tapered Roller Bearings, Four Inches or Less in Outside Diameter, and Components Thereof, From Japan; Final Results of Antidumping Duty Administrative Reviews and Termination in Part, 62 FR 11825 (March 13, 1997).

¹⁹ See Notice of Preliminary Determination of Sales at Less Than Fair Value: High and Ultra-High Voltage Ceramic Station Post Insulators from Japan, 68 FR 35627, 35629 (June 16, 2003), unchanged in Notice of Final Determination of Sales at Less Than Fair Value: High and Ultra-High Voltage Ceramic Station Post Insulators from Japan, 68 FR 62560 (November 5, 2003); Notice of Final Determination of Sales at Less Than Fair Value: Live Swine From Canada, 70 FR 12181, 12183-84 (March 11, 2005).

To corroborate the 206.00 percent petition rate, we compared this margin to the margins we found for the RMB/IFI Group in this review. We found that the margin of 206.00 percent has probative value because it is in the range of the transaction-specific margins that we found for the RMB/IFI Group.²⁰ Accordingly, we find that the rate of 206.00 percent is corroborated within the meaning of section 776(c) of the Act.

²⁰ See RMB IFI Prelim Analysis Memo.

Preliminary Results of Review

The Department preliminarily determines that the following weighted-average dumping margins exist:

Exporter | Weighted- average margin (percent)
RMB Fasteners Ltd., and IFI & Morgan Ltd. (“RMB/IFI Group”) | ¹.27
Suntec Industries Co., Ltd | 55.16
Shanghai Prime Machinery Co. Ltd | 55.16
Jiaxing Xinyue Standard Part Co., Ltd | 55.16
Certified Products International Inc | 55.16
Jiashan Zhongsheng Metal Products Co., Ltd | 55.16
Haiyan Dayu Fasteners Co., Ltd | 55.16
Haiyan Julong | 55.16
PRC-wide Entity (including Gem-Year Industrial Co. Ltd. and Shanghai Recky International Trading Co. Ltd.) | 206.00
¹ (de minimus).

The Department will disclose to parties the calculations performed in connection with these preliminary results within five days of the date of publication of this notice. See 19 CFR 351.224(b). As noted above, in accordance with 19 CFR 351.301(c)(3)(ii), for the final results of this administrative review, interested parties may submit publicly available information to value the FOPs within 20 days after the date of publication of these preliminary results. Interested parties must provide the Department with supporting documentation for the publicly available information to value each FOP. Additionally, in accordance with 19 CFR 351.301(c)(1), for the final results of this administrative review, interested parties may submit factual information to rebut, clarify, or correct factual information submitted by an interested party no less than ten days before, on, or after, the applicable deadline for submission of such factual information. However, the Department notes that 19 CFR 351.301(c)(1) permits new information only insofar as it rebuts, clarifies, or corrects information recently placed on the record. The Department generally cannot accept the submission of additional, previously absent-from-the-record alternative SV information pursuant to 19 CFR 351.301(c)(1). See Glycine from the People's Republic of China: Final Results of Antidumping Duty Administrative Review and Final Rescission, in Part, 72 FR 58809 (October 17, 2007) and accompanying Issues and Decision Memorandum at Comment 2.

Pursuant to 19 CFR 351.310(c), interested parties who wish to request a hearing, or to participate if one is requested, must submit a written request to the Assistant Secretary for Import Administration, Room 1117, within 30 days of the date of publication of this notice. Requests should contain: (1) The party's name, address and telephone number; (2) the number of participants; and (3) a list of issues to be discussed. Id. Issues raised in the hearing will be limited to those raised in the respective case briefs. Case briefs from interested parties may be submitted not later than 30 days of the date of publication of this notice, pursuant to 19 CFR 351.309(c). Rebuttal briefs, limited to issues raised in the case briefs, will be due five days later, pursuant to 19 CFR 351.309(d). Parties who submit case briefs or rebuttal briefs in this proceeding are requested to submit with each argument: (1) A statement of the issue; (2) a brief summary of the argument; and (3) a table of authorities. See 19 CFR 351.309(c) and (d).

The Department will issue the final results of this administrative review, including the results of its analysis of the issues raised in any written briefs, not later than 120 days after the date of publication of this notice, pursuant to section 751(a)(3)(A) of the Act.

Assessment Rates

Upon issuance of the final results, the Department will determine, and CBP shall assess, antidumping duties on all appropriate entries covered by these reviews. The Department intends to issue assessment instructions to CBP 15 days after the publication date of the final results of this review. In accordance with 19 CFR 351.212(b)(1), we calculated exporter/importer (or customer)-specific assessment rates for the merchandise subject to this review. Where the respondent has reported reliable entered values, we calculated importer (or customer)-specific ad valorem rates by aggregating the dumping margins calculated for all U.S. sales to each importer (or customer) and dividing this amount by the total entered value of the sales to each importer (or customer). See 19 CFR 351.212(b)(1). Where an importer (or customer)-specific ad valorem rate is greater than de minimis, we will apply the assessment rate to the entered value of the importers'/customers' entries during the POR. See 19 CFR 351.212(b)(1).

Where we do not have entered values for all U.S. sales, we calculated a per-unit assessment rate by aggregating the antidumping duties due for all U.S. sales to each importer (or customer) and dividing this amount by the total quantity sold to that importer (or customer). See 19 CFR 351.212(b)(1). To determine whether the duty assessment rates are de minimis, in accordance with the requirement set forth in 19 CFR 351.106(c)(2), we calculated importer (or customer)-specific ad valorem ratios based on the estimated entered value. Where an importer (or customer)-specific ad valorem rate is zero or de minimis, we will instruct CBP to liquidate appropriate entries without regard to antidumping duties. See 19 CFR 351.106(c)(2).

As noted above, consistent with Nails from the PRC, for the preliminary results, for the companies receiving a separate rate that were not selected for individual review, we have applied the margin calculated for the company selected for individual review, excluding any rates based entirely upon FA, pursuant to section 735(c)(5)(B) of the Act.

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 206.00 percent; and (4) for all non-PRC exporters of subject merchandise which have not received their own rate, the cash deposit rate will be the rate applicable to the PRC exporters that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This determination is issued and published in accordance with sections 751(a)(1) and 777(i)(1) of the Act and 19 CFR 351.221(b)(4).

Dated: May 2, 2011.
Ronald K. Lorentzen,
Deputy Assistant Secretary for Import Administration.

Appendix I

• Advanced Hardware Company

• Anhui Ningguo Zhongding Sealing Co. Ltd.

• Autocraft Industrial (Shanghai) Ltd.

• Beijing Peace Seasky International

• Billion Land Ltd.

• Century Distribution Systems

• China Jiangsu International Economic Technical Cooperation Corporation

• Dalian Americh International Trading Co., Ltd.

• Dalian Fortune Machinery Co., Ltd.

• Dalian Harada Industry Co., Ltd.

• EC International (Nantong) Co. Ltd.

• Ever Industries Co.

• Fastwell Industry Co. Ltd.

• Haining Light Industry Trade Co. Ltd.

• Haiyan County No. 1 Fasteners Factory (Hu-Hang Company)

• Haiyan Feihua Fasteners Co. Ltd.

• Haiyan Haiyu Hardware Co. Ltd.

• Haiyan Lianxiang Hardware Products

• Haiyan Sanhuan Import & Export Co.

• Haiyan Xiyue Electrical Appliances Co., Ltd.

• Haiyan Yida Fastener Co. Ltd.

• Handsun Industry General Co.

• Hangshou Daton Wind Power

• Hangshou Huayan Imp. and Exp. Co. Ltd.

• Hangzhou Everbright Imp & Exp Co. Ltd.

• Hangzhou Grand Imp. & Exp. Co., Ltd.

• Hangzhou Robinson Trading Co. Ltd.

• HD Supply Shanghai Distribution Center

• Hebei Richylin Trading Co Ltd.

• Honghua International Co. Ltd.

• Jiangsu Changzhou International

• Jiangsu Soho International Group Corp.

• Jiangsu Yanfei Special Steel Products

• Jiangxi Yuexin Standard Part Co. Ltd.

• Jiashan Lisan Metal Products Co. Ltd.

• Jiaxing Pacific Trading Co. Ltd.

• Jiaxing Tsr Hardware Inc.

• Jiaxing Wonper Imp. & Exp. Co. Ltd.

• JS Fasteners Co. Ltd.

• Jun Valve Junshan Co. Ltd.

• Kewell Products Corporation

• Lanba Fasteners Co. Ltd.

• Nantong Harlan Machinery Co. Ltd.

• Ningbiao Bolts & Nuts Manufacturing Co.

• Ningbo ABC Fasteners Co. Ltd.

• Ningbo Beilun Fastening Co. Ltd.

• Ningbo Beilun Longsheng

• Ningbo Daxie Chuofeng Industrial Development Co., Ltd.

• Ningbo Etdz Holding Ltd.

• Ningbo Fengya Imp. & Exp. Co. Ltd.

• Ningbo Fourway Co. Ltd.

• Ningbo Haishu Wit Imp. & Exp. Co. Ltd.

• Ningbo Haobo Commerce Co. Ltd.

• Ningbo Jiansheng Metal Products Co.

• Ningbo Shareway Import and Export Co. Ltd.

• Ningbo Weiye Co.

• Ningbo Xinyang Weiye

• Ningbo Yinzhou Foreign Trade Co. Ltd.

• Ningbo Yonggang Fastener Co. Ltd.

• Ningbo Zhenghai Yongding Fastener Co.

• Ningbo Zhengyu Fasteners Co., Ltd.

• Ningbo Zhongbin Fastener Mfg. Co. Ltd.

• Ningbo Zhongjiang High Strength

• Ningbo Zhongjiang Petroleum Pipes & Machinery Co. Ltd.

• Orient International Enterprise Ltd.

• Penglai City Bohai Hardware Tool Co. Ltd.

• Pennengineering Automotive Fastener

• Pinghu City Zhapu Screw Cap

• Qingdao H.R. International Trading Co.

• Qingdao Hengfeng Development Trade

• Qingdao Huaqing Imp. and Exp. Co. Ltd.

• Qingdao Morning Bright Trading

• Qingdao Uni-trend Int'l Ltd.

• Roberts Co.

• R-union Enterprise Co. Ltd.

• Shaanxi Shcceed Trading Co. Ltd.

• Shanghai Foreign Trade Enterprises Pudong Co. Ltd.

• Shanghai Huiyi International Trade

• Shanghai Jiading Foreign Trade Co. Ltd.

• Shanghai Overseas International Trading Co. Ltd.

• Shanghai Recky International Trading Co., Ltd.

• Shanghai Shangdian Washer Co.

• Shanghai Shenguang High Strength Bolts Co. Ltd.

• Shanghai Sunrise International Co.

• Shanghai Tianying Metal Parts Co. Ltd.

• Shanghai Wisechain Fastener Ltd.

• Shanghai Xianglong International Trading Co., Ltd. (Wangzhai Group)

• Shanghai Xiangrong International Trading Co., Ltd.

• Shenzhen Texinlong Trading Co.

• Shenzhen Xiguan Trading Ltd.

• Suzhou Textile Silk Co. Ltd.

• Synercomp China Co. Ltd.

• T and C Fastener Co. Ltd.

• T and L Industry Co. Ltd.

• T&S Technology LLC

• Tong Ming Enterprise

• Tri-Star Trading Co. (Hong Kong)

• Unimax International Ltd.

• Wujiang Foreign Trade Corporation

• Wuxi Zontai International

• Yancheng Sanwei Imp. & Exp. Co. Ltd.

• Yi Chi Hsiung Ind. Corp.

• Yixunda Industrial Products Supply

• Yueyun Imp & Exp Co. Ltd.

• Yuyao Nanshan Development Co. Ltd.

• Zhapu Creative Standard Parts Material Co., Ltd.

• Zhejiang Guorui Industry Co., Ltd.

• Zhejiang Hailiang Co. Ltd.

• Zhejiang Huamao International Co. Ltd.

• Zhejiang Laibao Hardware Co. Ltd.

• Zhejiang Machinery & Equipment Co. Ltd.

• Zhejiang Minmetals Sanhe Import & Export Co. Ltd.

• Zhejiang Morgan Brother

• Zhejiang New Oriental Fastener Co., Ltd.

• Zhejiang Peace Industry and Trading

• Zhejiang Xingxing Optoelectron

• Zhejiang Zhenglian Corp.

[FR Doc. 2011-11255 Filed 5-6-11; 8:45 am]

BILLING CODE 3510-DS-P